DEPARTMENT OF ENERGY

Federal Energy Regulatory Commission

[Project No. 2809-034]

KEI (Maine) Power Management (III); Notice Soliciting Scoping Comments

Take notice that the following hydroelectric license application has been filed with the Commission and is available for public inspection.

a. Type of Application: Subsequent Minor License.

b. Project No.: P-2809-034.

c. Date filed: April 28, 2017.

d. Applicant: KEI (Maine) Power Management (III) LLC (KEI Power).

e. Name of Project: American Tissue Hydroelectric Project.

f. Location: On Cobbosseecontee Stream, in the Town of Gardiner, Kennebec County, Maine. There are no Federal or tribal lands within the project boundary.

g. Filed Pursuant to: Federal Power Act 16 U.S.C. 791(a)-825(r).

h. Applicant Contact: Lewis C. Loon, Operations and Maintenance Manager, USA, KEI (Maine) Power Management (III) LLC, 423 Brunswick Avenue, Gardiner, ME 04345; (207) 203-3026.

i. FERC Contact: John Baummer, 202-502-6837, or john.baummer@ferc.gov.

j. Deadline for filing scoping comments: September 7, 2017.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2809-034.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing American Tissue Project consists of: (1) A 256-foot-long, 23-foot-high cut granite, stone and brick masonry dam that includes a 61-foot-long west abutment section, a 100-foot-long spillway section with 12-inch-high flashboards and a crest elevation of 122.3 feet mean sea level (msl), and a 95-foot-long east abutment section with an intake structure that includes: (a) Trashracks with 2-inch clear spacing, (b) a manually-operated headgate that controls flow to the penstock, and (c) three low level outlets at an elevation of about 100 feet msl for releasing minimum flows to the bypassed reach; (2) an approximately 5.5-acre, 1,000-foot-long impoundment with a normal maximum water surface elevation of 123.3 feet msl; (3) a 280-foot-long, 7-foot-diameter underground steel penstock; (4) a 37-foot-long, 34-foot-wide concrete and wooden powerhouse containing a single 1.0-MW turbine-generator unit; (5) a 250-foot-long, 12-kilovolt transmission line; (6) a tailrace; and (7) appurtenant facilities.

KEI Power operates the project in a run-of-river mode with an average annual generation of 5,430 megawatt-hours. KEI Power proposes to release year-round minimum flows of 10 cubic feet per second (cfs) (or inflow to the impoundment, whichever is less), to the bypassed reach to enhance habitat for aquatic organisms and provide downstream passage for alewives. KEI Power also proposes to release a minimum flow of 52 cfs (or inflow, whichever is less) to the tailrace to protect aquatic resources in the downstream reach. In addition, KEI Power proposes to upgrade the existing downstream fish passage facility, construct and operate a new upstream passage facility for American eel, and release 40 cfs through the low level gates of the dam from September 1 to November 15 to facilitate downstream eel passage.

m. A copy of the application is available for review at the Commission in the Public Reference Room or may be viewed on the Commission's Web site at http://www.ferc.gov using the “eLibrary” link. Enter the docket number excluding the last three digits in the docket number field to address the document. For assistance, contact FERC Online Support. A copy is available for inspection and reproduction at the address in item (h) above.

n. You may also register online at http://www.ferc.gov/docs-filing/esubscription.asp to be notified via email of new filings and issuances related to this or other pending projects. For assistance, contact FERC Online Support.

o. Scoping Process: The Commission staff intends to prepare a single Environmental Assessment (EA) for the American Tissue Hydroelectric Project in accordance with the National Environmental Policy Act. The EA will consider both site-specific and cumulative environmental impacts and reasonable alternatives to the proposed action.

Commission staff does not propose to conduct any on-site scoping meetings at this time. Instead, we are soliciting comments, recommendations, and information, on Scoping Document 1 (SD1) issued on August 8, 2017.

Copies of SD1 outlining the subject areas to be addressed in the EA were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: August 8, 2017.
Nathaniel J. Davis, Sr.,
Deputy Secretary.

[FR Doc. 2017-17090 Filed 8-11-17; 8:45 am]

BILLING CODE 6717-01-P